OCCUPATIONAL SAFETY AND HEALTH REVIEW COMMISSION

Privacy Act of 1974; System of Records

AGENCY: Occupational Safety and Health Review Commission.

ACTION: Notice of Modified Systems of Records.

SUMMARY: In accordance with the Privacy Act of 1974, the Occupational Safety and Health Review Commission (OSHRC) is revising the notices for its Privacy Act system of records.

DATES: Comments must be received by OSHRC on or before October 8, 2025. The revised system of records will become effective on that date, without any further notice in the Federal Register, unless comments or government approval procedures necessitate otherwise.

ADDRESSES: You may submit comments by any of the following methods:

• Email: OSHRC_Privacy@oshrc.gov. Include “PRIVACY ACT SYSTEM OF RECORDS” in the subject line of the message.

• Mail: One Lafayette Centre, 1120 20th Street NW, Ninth Floor, Washington, DC 20036-3457.

• Hand Delivery/Courier: same as mailing address.

Instructions: All submissions must include your name, return address, and email address, if applicable. Please clearly label submissions as “PRIVACY ACT SYSTEM OF RECORDS.”

FOR FURTHER INFORMATION CONTACT: Ron Bailey, Senior Attorney-Advisor, Office of the General Counsel, via telephone at (202) 606-5410, or via email at OSHRC_Privacy@oshrc.gov.

SUPPLEMENTARY INFORMATION: The Privacy Act of 1974, 5 U.S.C. 552a(e)(4), requires federal agencies such as OSHRC to publish in the Federal Register notice of any new or modified system of records.

In each of its nine system-of-records notices (SORNs), OSHRC is revising the sections on record access procedures, contesting record procedures, and notification procedures to provide clarity and update citations to provisions in 29 CFR part 2400. This part, which contains the agency's Privacy Act regulations, was amended on October 15, 2020, as described in 85 FR 65221.

OSHRC is making additional revisions to two of its SORNs, OSHRC-4 and OSHRC-8. OSHRC is revising the name of OSHRC-4—currently “Payroll and Related Records”—to “Payroll, Work Schedule, and Related Records” to more accurately describe the nature of the records included in this system. In addition, the notice's section on categories of records is being revised to include records created and maintained pursuant to the Federal Employee Paid Leave Act, 5 U.S.C. 6382(d), and its implementing regulations (5 CFR part 630, subpart Q), as well as records related to telework (such as situational telework during weather emergencies). Finally, statutory authority for maintaining leave and telework records has been added to the notice's section on authorities.

OSHRC is revising the name of OSHRC-8—currently “Database of Commission and ALJ Decisions, and other case-related documents, on OSHRC website”—to “OSHRC website.” The purpose of this revision is to reflect that, in addition to Commission and Administrative Law Judge (ALJ) decisions and other case-related materials posted on oshrc.gov, this system includes personally identifiable information (PII) provided by subscribers to the agency website's “E-Alerts” and requesters seeking agency records through the Freedom of Information Act (FOIA) (please note that this PII is not accessible to the public when submitted). In addition, due to changes in website hosting and modifications to the website itself, including improvements in the search engine function for the agency's Commission and ALJ decisions and the added capability to submit FOIA requests online, revisions have been made to the system's location and purpose; the categories of individuals covered by the system and the categories of records in that system; the policies and practices for storage, retrieval, retention and disposal of records; and the administrative, technical, and physical safeguards. Further, due to changes in how new material posted on the website is managed, a routine use has been deleted. Finally, guidance from the Office of Management and Budget on digital services and websites has been added to the notice's section on authorities.

The notices for OSHRC-4 and OSHRC-8, provided below in their entirety, and the modified sections of the other notices—OSHRC-1, OSHRC-2, OSHRC-3, OSHRC-5, OSHRC-6, OSHRC-7, and OSHRC-9—are as follows.

SYSTEM NAME AND NUMBER:

Emergency Contact Information, OSHRC-1.

SECURITY CLASSIFICATION:

Unclassified.

SYSTEM LOCATION:

Office of the Executive Director, OSHRC, 1120 20th Street NW, Ninth Floor, Washington, DC 20036-3457.

SYSTEM MANAGER(S):

Human Resources Specialist, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

September 21, 2018, 83 FR 47942.

SYSTEM NAME AND NUMBER:

Visitors' Log Records, OSHRC-2.

SECURITY CLASSIFICATION:

Unclassified.

SYSTEM LOCATION:

Office of the Executive Director, OSHRC, 1120 20th Street NW, Ninth Floor, Washington, DC 20036-3457.

SYSTEM MANAGER(S):

Administrative Support Assistant, Office of the Executive Director, OSHRC, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

April 14, 2006, 71 FR 19556; August 4, 2008, 73 FR 45256; October 5, 2015, 80 FR 60182; September 28, 2017, 82 FR 45324; March 4, 2019, 84 FR 7408.

SYSTEM NAME AND NUMBER:

Transportation Subsidy Program Records, OSHRC-3.

SECURITY CLASSIFICATION:

Unclassified.

SYSTEM LOCATION:

Office of the Executive Director, OSHRC, 1120 20th Street NW, Ninth Floor, Washington, DC 20036-3457.

SYSTEM MANAGER(S):

Support Services Specialist, Office of the Executive Director, OSHRC, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

April 14, 2006, 71 FR 19556; August 4, 2008, 73 FR 45256; October 5, 2015, 80 FR 60182; September 28, 2017, 82 FR 45324; July 12, 2018, 83 FR 32331; August 31, 2020, 85 FR 53863.

SYSTEM NAME AND NUMBER:

Payroll, Work Schedule, and Related Records, OSHRC-4.

SECURITY CLASSIFICATION:

Unclassified.

SYSTEM LOCATION:

(1) Paper and electronic files are maintained by the Office of the Executive Director, OSHRC, 1120 20th Street NW, Ninth Floor, Washington, DC 20036-3457; (2) pursuant to an interagency agreement, payroll records are stored electronically by the U.S. Department of Agriculture, National Finance Center (NFC), P.O. Box 60000, New Orleans, LA 70160-0001.

SYSTEM MANAGER(S):

Human Resources Specialist, OSHRC, 1120 20th Street NW, Ninth Floor, Washington, DC 20036-3457; (202) 606-5100.

AUTHORITY FOR MAINTENANCE OF THE SYSTEM:

5 U.S.C. 301; 5 U.S.C. 5101-6506; 26 U.S.C. 6011, 6109; 29 U.S.C. 661; 44 U.S.C. 3101.

PURPOSE(S) OF THE SYSTEM:

Records are used by OSHRC and NFC employees to maintain payroll, leave and attendance, and work schedule records for OSHRC employees and Commission members.

CATEGORIES OF INDIVIDUALS COVERED BY THE SYSTEM:

This system of records covers current and former employees of OSHRC and Commission members.

CATEGORIES OF RECORDS IN THE SYSTEM:

The records maintained in this system, and the categories of records referenced therein, are as follows. (1) direct deposit records that include the employee's name and signature, address, and telephone number; the type of depositor account selected for direct deposit, and the account and routing numbers; and a voided check; (2) tax records that include the employee's name and signature, social security number, marital status, and home address; the number of allowances for which the employee qualifies; and further information which may be required on state, county, or city withholding certificates; (3) employee retirement estimates that include the employee's name and social security number; (4) records maintained pursuant to the Family and Medical Leave Act and the Federal Employee Paid Leave Act that include the employee's name, telephone number and email address, signature, and job description; identity of certain family members and, if a child, date of birth; and medical information pertinent to leave requests; (5) telework agreements and self-certification checklists that include the employee's name, address, and telephone number; and (6) records necessary for payroll processing by NFC, including those pertaining to time and attendance and leave records, that may include some or all of the information specified above, as well as additional information concerning deductions, salary and benefits.

RECORD SOURCE CATEGORIES:

Information in this system either comes from the individual to whom it applies or is derived from information compiled by OSHRC employees performing administrative duties.

ROUTINE USES OF RECORDS MAINTAINED IN THE SYSTEM, INCLUDING CATEGORIES OF USERS AND PURPOSES OF SUCH USES:

In addition to disclosures generally permitted under 5 U.S.C. 552a(b), all or a portion of the records or information contained in this system of records may be disclosed as a routine use pursuant to 5 U.S.C. 552a(b)(3) under the circumstances or for the purposes described below, to the extent such disclosures are compatible with the purposes for which the information was collected, and to the extent disclosure of any medical and/or genetic information is in compliance with Section 501 of the Rehabilitation Act of 1973 and Title II of the Genetic Information Nondiscrimination Act (GINA) of 2008. With respect to medical and genetic information protected under the Rehabilitation Act and/or GINA, records will be withheld or redacted to comply with the specific confidentiality and disclosure requirements set forth by the U.S. Equal Employment Opportunity Commission at 29 CFR pt. 1630 (Rehabilitation Act) and 29 CFR pt. 1635 (GINA). With these limitations, records may be disclosed as a routine use:

(1) To the Department of Justice (DOJ), or to a court or adjudicative body before which OSHRC is authorized to appear, when any of the following entities or individuals—(a) OSHRC, or any of its components; (b) any employee of OSHRC in his or her official capacity; (c) any employee of OSHRC in his or her individual capacity where DOJ (or OSHRC where it is authorized to do so) has agreed to represent the employee; or (d) the United States, where OSHRC determines that litigation is likely to affect OSHRC or any of its components—is a party to litigation or has an interest in such litigation, and OSHRC determines that the use of such records by DOJ, or by a court or other tribunal, or another party before such tribunal, is relevant and necessary to the litigation.

(2) To an appropriate agency, whether federal, state, local, or foreign, charged with investigating or prosecuting a violation or enforcing or implementing a law, rule, regulation, or order, when a record, either on its face or in conjunction with other information, indicates a violation or potential violation of law, which includes civil, criminal or regulatory violations, and such disclosure is proper and consistent with the official duties of the person making the disclosure.

(3) To a federal, state, or local agency maintaining civil, criminal or other relevant enforcement information, such as current licenses, if necessary to obtain information relevant to an OSHRC decision concerning the hiring, appointment, or retention of an employee; the issuance, renewal, suspension, or revocation of a security clearance; the execution of a security or suitability investigation; the letting of a contract; or the issuance of a license, grant or other benefit.

(4) To a federal, state, or local agency, in response to that agency's request for a record, and only to the extent that the information is relevant and necessary to the requesting agency's decision in the matter, if the record is sought in connection with the hiring, appointment, or retention of an employee; the issuance, renewal, suspension, or revocation of a security clearance; the execution of a security or suitability investigation; the letting of a contract; or the issuance of a license, grant or other benefit by the requesting agency.

(5) To an authorized appeal grievance examiner, formal complaints manager, equal employment opportunity investigator, arbitrator, or other duly authorized official engaged in investigation or settlement of a grievance, complaint, or appeal filed by an employee, only to the extent that the information is relevant and necessary to the case or matter.

(6) To OPM in accordance with the agency's responsibilities for evaluation and oversight of federal personnel management.

(7) To officers and employees of a federal agency for the purpose of conducting an audit, but only to the extent that the record is relevant and necessary to this purpose.

(8) To OMB in connection with the review of private relief legislation at any stage of the legislative coordination and clearance process, as set forth in Circular No. A-19.

(9) To a Member of Congress or to a person on his or her staff acting on the Member's behalf when a written request is made on behalf and at the behest of the individual who is the subject of the record.

(10) To the National Archives and Records Administration (NARA) for records management inspections and such other purposes conducted under the authority of 44 U.S.C. 2904 and 2906.

(11) To appropriate agencies, entities, and persons when: (a) OSHRC suspects or has confirmed that there has been a breach of the system of records; (b) OSHRC has determined that as a result of the suspected or confirmed breach there is a risk of harm to individuals, OSHRC, the Federal Government, or national security; and (c) the disclosure made to such agencies, entities, and persons is reasonably necessary to assist in connection with OSHRC's efforts to respond to the suspected or confirmed breach or to prevent, minimize, or remedy such harm.

(12) To NARA, Office of Government Information Services (OGIS), to the extent necessary to fulfill its responsibilities in 5 U.S.C. 552(h), to review administrative agency policies, procedures and compliance with FOIA, and to facilitate OGIS' offering of mediation services to resolve disputes between persons making FOIA requests and administrative agencies.

(13) To another federal agency or federal entity, when OSHRC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(14) To the Internal Revenue Service (IRS) for investigation, and to private attorneys, pursuant to a power of attorney.

(15) To the IRS, a copy of an employee's Department of the Treasury Form W-2, Wage and Tax Statement.

(16) To state, city, or other local jurisdictions which are authorized to tax the employee's compensation, a copy of an employee's Form W-2. The record will be provided in accordance with a withholding agreement between the state, city, or other local jurisdiction and the Department of the Treasury pursuant to 5 U.S.C. 5516, 5517, and 5520, or in response to a written request from an appropriate official of the taxing jurisdiction. The request must include a copy of the applicable statute or ordinance authorizing the taxation of compensation and should indicate whether the authority of the jurisdiction to tax the employee is based on place of residence, place of employment, or both.

(17) To a city, copies of executed city tax withholding certifications, pursuant to a withholding agreement between the city and the Department of the Treasury (5 U.S.C. 5520), and in response to written requests from an appropriate city official to OSHRC's Office of the Executive Director.

(18) To NFC to effect issuance of paychecks via electronic fund transfers (EFT) to employees, and distribution of allotments and deductions to financial and other institutions, and for other authorized purposes.

(19) To the Federal Retirement Thrift Investment Board to update Section 401K type records and benefits; to the Social Security Administration to establish social security records and benefits; to the Department of Labor, Office of Worker's Compensation to process compensation claims; to the Department of Defense to adjust military retirement; to health insurance carriers to process insurance claims; and to the Department of Veterans Affairs for the purpose of evaluating veteran's benefits to which the individual may be entitled.

(20) To other federal agencies to effect salary or administrative offsets, or for other purposes connected with the collection of debts owed to the United States, pursuant to sections 5 and 10 of the Debt Collection Act of 1982, as amended by the Debt Collection Improvement Act of 1996.

(21) To other federal, state, local or foreign agencies conducting computer matching programs to help eliminate fraud and abuse and to detect unauthorized overpayments made to individuals. When disclosures are made as part of computer matching programs, OSHRC will comply with the Computer Matching and Privacy Protection Act of 1988, and the Computer Matching and Privacy Protections Amendments of 1990.

(22) To the Office of Child Support Enforcement, Administration for Children and Families, Department of Health and Human Services, the names, social security numbers, home addresses, dates of birth, dates of hire, quarterly earnings, employer identifying information, and state of hire of employees for the purpose of locating individuals to establish paternity, identifying sources of income, and for other child support enforcement actions as required by the Personal Responsibility and Work Opportunity Reconciliation Act of 1996, 42 U.S.C. 653(n).

(23) To “consumer reporting agencies” as defined in the Fair Credit Reporting Act (15 U.S.C. 1681a(f)) or the Federal Claims Collection Act of 1966 (31 U.S.C. 3701(a)(3)) in accordance with 31 U.S.C. 3711(f).

POLICIES AND PRACTICES FOR STORAGE OF RECORDS:

Records are stored on paper in file cabinets at OSHRC's National Office in Washington, DC, and electronically on an access-restricted shared OSHRC drive. Records are also stored electronically on the NFC's personnel/payroll system.

POLICIES AND PRACTICES FOR RETRIEVAL OF RECORDS:

Records are retrieved manually and electronically by name.

POLICIES AND PRACTICES FOR RETENTION AND DISPOSAL OF RECORDS:

Records are retained and disposed of in accordance with NARA's General Records Schedule 2.4.

ADMINISTRATIVE, TECHNICAL, AND PHYSICAL SAFEGUARDS:

Paper records are maintained in locked file cabinets, and access is limited to personnel who require access to perform their official functions. Access to electronic records maintained on an OSHRC shared drive is restricted to personnel who require access to perform their official functions.

OSHRC records electronically transmitted to its contractor, NFC, are stored on servers in a secured federal complex with access codes, security codes, and/or security guards. Access to networks and data requires a valid username and password and is further restricted to personnel who have the need to know the information for the performance of their official duties.

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

EXEMPTIONS PROMULGATED FOR THE SYSTEM:

None.

HISTORY:

April 14, 2006, 71 FR 19556; August 4, 2008, 73 FR 45256; October 5, 2015, 80 FR 60182; September 28, 2017, 82 FR 45324; November 13, 2018, 83 FR 56380; and March 4, 2019, 84 FR 7406.

SYSTEM NAME AND NUMBER:

Office of the General Counsel Records, OSHRC-5.

SECURITY CLASSIFICATION:

Unclassified.

SYSTEM LOCATION:

Office of the General Counsel, OSHRC, 1120 20th Street NW, Ninth Floor, Washington, DC 20036-3457.

SYSTEM MANAGER(S):

Office of the General Counsel, OSHRC, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

April 14, 2006, 71 FR 19556; August 4, 2008, 73 FR 45256; October 5, 2015, 80 FR 60182; September 28, 2017, 82 FR 45324; October 31, 2018, 83 FR 54789; and July 11, 2024, 89 FR 56904.

SYSTEM NAME AND NUMBER:

E-Filing/Case Management System, OSHRC-6.

SECURITY CLASSIFICATION:

Unclassified.

SYSTEM LOCATION:

Electronic records are maintained in a government-only cloud within an Oracle Database, operated by Tyler Federal, LLC, at 44470 Chilum Place, Ashburn, VA 20148. Paper records are maintained by the Office of the Executive Secretary, located at 1120 20th Street NW, Ninth Floor, Washington, DC 20036-3457.

SYSTEM MANAGER(S):

Supervisory Information Technology Specialist (electronic records contained in the e-filing/case management system) and the Executive Secretary (all other records), OSHRC, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

July 7, 2016, 81 FR 44335; September 28, 2017, 82 FR 45324; August 30, 2018, 83 FR 44309; and September 14, 2021, 86 FR 51199.

SYSTEM NAME AND NUMBER:

Personnel Security Records, OSHRC-7.

SECURITY CLASSIFICATION:

Unclassified.

SYSTEM LOCATION:

The Office of the Executive Director maintains the records in this system. The office is located at 1120 20th Street NW, Ninth Floor, Washington, DC 20036-3457.

SYSTEM MANAGER(S):

Human Resources Specialist, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

April 14, 2006, 71 FR 19556; August 4, 2008, 73 FR 45256; October 5, 2015, 80 FR 60182; September 28, 2017, 82 FR 45324; August 30, 2018, 83 FR 44309; and October 12, 2021, 86 FR 56734.

SYSTEM NAME AND NUMBER:

OSHRC website, OSHRC-8.

SECURITY CLASSIFICATION:

Unclassified.

SYSTEM LOCATION:

OSHRC's website is hosted by WP Engine, and records from the website are stored within Google Cloud Platform's data center in Council Bluffs, Iowa. The Office of the Executive Director is responsible for the records in this system. The office is located at 1120 20th Street NW, Ninth Floor, Washington, DC 20036-3457.

SYSTEM MANAGER(S):

Supervisory Information Technology Specialist, OSHRC, 1120 20th Street NW, Ninth Floor, Washington, DC 20036-3457; (202) 606-5100.

AUTHORITY FOR MAINTENANCE OF THE SYSTEM:

5 U.S.C. 552; 29 U.S.C. 661(g); OMB Memorandum M-10-06; OMB Memorandum M-16-16; OMB Memorandum M-23-22; OMB Memorandum M-24-08.

PURPOSE(S) OF THE SYSTEM:

This system of records is maintained in order to make Commission and ALJ decisions, as well as other case-related documents, more accessible to the public and agency employees, and to allow for online submission of Freedom of Information Act (FOIA) requests.

CATEGORIES OF INDIVIDUALS COVERED BY THE SYSTEM:

This system of records covers all individuals referenced and described in Commission and ALJ decisions, and other case-related documents posted on OSHRC's website, including sole proprietors who were cited by OSHA, employees and other witnesses, attorney and non-attorney representatives of each party, and the Commissioners and ALJs. This system also covers individuals who subscribe to “E-Alerts” on the website, as well as individuals who submit FOIA requests through the website.

CATEGORIES OF RECORDS IN THE SYSTEM:

This system of records includes final decisions issued by the Commission since 1972, and final decisions issued by the ALJs since 1993. This system also includes documents posted on OSHRC's Open Government web page, including select orders issued by ALJs and the Commission, briefing notices issued since 2010, listings of new cases received since 2010, and monthly docket reports issued since 2010. In addition, this system includes certain documents posted in OSHRC's e-FOIA Reading Room, including case filings in select Commission cases. The documents may contain the following information: (1) the names and locations (city and state) of the individuals representing each party; (2) the names of sole proprietors cited by OSHA, as well as employees and other witnesses, and information describing those individuals, including job title and duties, medical history, and other descriptive information that is relevant to the disposition of a case; and (3) the names and job titles of the Commissioners and ALJs. This system also includes a database that contains the names and email addresses of those individuals who subscribe to “E-Alerts.” Finally, this system includes a database for submission of online FOIA requests, which may contain names, residential addresses, email addresses, and personal telephone numbers, as well as any other personal information that FOIA requesters enter into an open field to describe their requests.

RECORD SOURCE CATEGORIES:

Information in this system of records is derived from records associated with contested cases adjudicated before the Commission and/or the ALJs and, thus, the information may come from individuals who are the subjects of the records or from other sources. Information also comes from individuals who subscribe to “E-Alerts” or submit FOIA requests through the website.

ROUTINE USES OF RECORDS MAINTAINED IN THE SYSTEM, INCLUDING CATEGORIES OF USERS AND PURPOSES OF SUCH USES:

In addition to disclosures generally permitted under 5 U.S.C. 552a(b), all or a portion of the records or information contained in this system of records may be disclosed as a routine use pursuant to 5 U.S.C. 552a(b)(3) under the circumstances or for the purposes described below, to the extent such disclosures are compatible with the purposes for which the information was collected:

(1) To the Department of Justice (DOJ), or to a court or adjudicative body before which OSHRC is authorized to appear, when any of the following entities or individuals—(a) OSHRC, or any of its components; (b) any employee of OSHRC in his or her official capacity; (c) any employee of OSHRC in his or her individual capacity where DOJ (or OSHRC where it is authorized to do so) has agreed to represent the employee; or (d) the United States, where OSHRC determines that litigation is likely to affect OSHRC or any of its components—is a party to litigation or has an interest in such litigation, and OSHRC determines that the use of such records by DOJ, or by a court or other tribunal, or another party before such tribunal, is relevant and necessary to the litigation.

(2) To an appropriate agency, whether federal, state, local, or foreign, charged with investigating or prosecuting a violation or enforcing or implementing a law, rule, regulation, or order, when a record, either on its face or in conjunction with other information, indicates a violation or potential violation of law, which includes civil, criminal or regulatory violations, and such disclosure is proper and consistent with the official duties of the person making the disclosure.

(3) To a federal, state, or local agency maintaining civil, criminal or other relevant enforcement information, such as current licenses, if necessary to obtain information relevant to an OSHRC decision concerning the hiring, appointment, or retention of an employee; the issuance, renewal, suspension, or revocation of a security clearance; the execution of a security or suitability investigation; the letting of a contract; or the issuance of a license, grant or other benefit.

(4) To a federal, state, or local agency, in response to that agency's request for a record, and only to the extent that the information is relevant and necessary to the requesting agency's decision in the matter, if the record is sought in connection with the hiring, appointment, or retention of an employee; the issuance, renewal, suspension, or revocation of a security clearance; the execution of a security or suitability investigation; the letting of a contract; or the issuance of a license, grant or other benefit by the requesting agency.

(5) To an authorized appeal grievance examiner, formal complaints manager, equal employment opportunity investigator, arbitrator, or other duly authorized official engaged in investigation or settlement of a grievance, complaint, or appeal filed by an employee, only to the extent that the information is relevant and necessary to the case or matter.

(6) To OPM in accordance with the agency's responsibilities for evaluation and oversight of federal personnel management.

(7) To officers and employees of a federal agency for the purpose of conducting an audit, but only to the extent that the record is relevant and necessary to this purpose.

(8) To OMB in connection with the review of private relief legislation at any stage of the legislative coordination and clearance process, as set forth in Circular No. A-19.

(9) To a Member of Congress or to a person on his or her staff acting on the Member's behalf when a written request is made on behalf and at the behest of the individual who is the subject of the record.

(10) To the National Archives and Records Administration (NARA) for records management inspections and such other purposes conducted under the authority of 44 U.S.C. 2904 and 2906.

(11) To appropriate agencies, entities, and persons when: (a) OSHRC suspects or has confirmed that there has been a breach of the system of records; (b) OSHRC has determined that as a result of the suspected or confirmed breach there is a risk of harm to individuals, OSHRC, the Federal Government, or national security; and (c) the disclosure made to such agencies, entities, and persons is reasonably necessary to assist in connection with OSHRC's efforts to respond to the suspected or confirmed breach or to prevent, minimize, or remedy such harm.

(12) To NARA, Office of Government Information Services (OGIS), to the extent necessary to fulfill its responsibilities in 5 U.S.C. 552(h), to review administrative agency policies, procedures and compliance with FOIA, and to facilitate OGIS' offering of mediation services to resolve disputes between persons making FOIA requests and administrative agencies.

(13) To another federal agency or federal entity, when OSHRC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(14) To the public, via OSHRC's website, pursuant to 29 U.S.C. 661(g), which states that “[e]very official act of the Commission shall be entered of record, and its hearings and records shall be open to the public.” Only personal information that is relevant and necessary to the disposition of OSHRC cases will be included in these decisions.

POLICIES AND PRACTICES FOR STORAGE OF RECORDS:

Records are stored by WP Engine within Google Cloud Platform's data center in Council Bluffs, Iowa. Electronic copies of FOIA request submissions are also maintained by the Office of the General Counsel, which is covered by the system-of-records notice, Office of the General Counsel Records, OSHRC-5.

POLICIES AND PRACTICES FOR RETRIEVAL OF RECORDS:

Commission and ALJ decisions on OSHRC's website can be retrieved by case name, docket number, or keyword search via the search engine located on the website's Decision Search page, and all other documents maintained on the website can be retrieved by a simplified Boolean search via the search engine located on the website's homepage. Although not searchable on the website, the names and email addresses of those who subscribe to “E-Alerts” and information that FOIA requesters submit through the website can be retrieved by OSHRC system administrators.

POLICIES AND PRACTICES FOR RETENTION AND DISPOSAL OF RECORDS:

Records are retained and disposed of in accordance with OSHRC Records Control Schedule N1-455-11-003. Pursuant to General Records Schedule 5.1, Item 20, records from FOIA Requests submissions are maintained within Google Cloud Platform's data center for 120 days for business use and then automatically deleted.

ADMINISTRATIVE, TECHNICAL, AND PHYSICAL SAFEGUARDS:

OSHRC requests updates for its website through a secure portal. The website's records are secured within Google Cloud Platform's data center in accordance with federal standards. Access to the names and email addresses of those who subscribe to “E-Alerts,” as well as information submitted through the online FOIA forms, is limited to OSHRC system administrators.

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

EXEMPTIONS PROMULGATED FOR THE SYSTEM:

None.

HISTORY:

September 24, 2007, 72 FR 54301; August 4, 2008, 73 FR 45256; October 5, 2015, 80 FR 60182; September 28, 2017, 82 FR 45324; December 4, 2018, 83 FR 62627.

SYSTEM NAME AND NUMBER:

Reasonable Accommodation Records, OSHRC-9.

SECURITY CLASSIFICATION:

Unclassified.

SYSTEM LOCATION:

The Office of the Executive Director maintains the records in this system. The office is located at 1120 20th Street NW, Ninth Floor, Washington, DC 20036-3457.

SYSTEM MANAGER(S):

Human Resources Specialist, 1120 20th Street NW, Ninth Floor, Washington, DC 20036-3457; (202) 606-5100.

* * * * *

RECORD ACCESS PROCEDURES:

Individuals who wish to request access to their records should notify: Privacy Officer, OSHRC, 1120 20th Street NW, Ninth Floor, Washington, DC 20036-3457. For an explanation on how such requests should be drafted, refer to 29 CFR 2400.4 (procedures for requesting notification of and access to personal records).

CONTESTING RECORD PROCEDURES:

Individuals who wish to contest their records should notify: Privacy Officer, OSHRC, 1120 20th Street NW, Ninth Floor, Washington, DC 20036-3457. For an explanation on the specific procedures for contesting the content of a record, refer to 29 CFR 2400.6 (procedures for amending personal records), and 29 CFR 2400.7 (procedures for appealing).

NOTIFICATION PROCEDURES:

Individuals interested in requesting notification about their records should notify: Privacy Officer, OSHRC, 1120 20th Street NW, Ninth Floor, Washington, DC 20036-3457. For an explanation on how such requests should be drafted, refer to 29 CFR 2400.4 (procedures for requesting notification of and access to personal records).

* * * * *

HISTORY:

November 18, 2021, 86 FR 64532.

Nadine N. Mancini,
General Counsel, Senior Agency Official for Privacy.

[FR Doc. 2025-17093 Filed 9-5-25; 8:45 am]

BILLING CODE 7600-01-P